DEPARTMENT OF TRANSPORTATION

Federal Railroad Administration

Environmental Impact Statement (EIS) for the Hudson Tunnel Project in Hudson County, New Jersey and New York County, New York

AGENCY: Federal Railroad Administration (FRA), Department of Transportation (DOT).

ACTION: Notice of intent (NOI) to prepare an Environmental Impact Statement (EIS).

SUMMARY: Through this Notice, FRA announces its intent to jointly prepare an environmental impact statement (EIS) with the New Jersey Transit Corporation (NJ TRANSIT) for the Hudson Tunnel Project (the Proposed Action or the Project) under the National Environmental Policy Act (NEPA). The Proposed Action is intended to preserve the current functionality of the Northeast Corridor's (NEC) Hudson River rail crossing between New Jersey and New York and strengthen the resilience of the NEC. The Project would consist of construction of a new rail tunnel beneath the Hudson River, including railroad infrastructure in New Jersey and New York connecting the new rail tunnel to the existing NEC, and rehabilitation of the existing NEC tunnel beneath the Hudson River, referred to as the North River Tunnel. The EIS will evaluate the potential environmental impacts of a reasonable range of alternatives, including the No Action (No Build) Alternative. As appropriate, FRA and NJ TRANSIT will coordinate with the National Railroad Passenger Corporation (Amtrak), as owner of the North River Tunnel, and the Port Authority of New York and New Jersey (PANYNJ) on the EIS.

FRA invites the public and all interested parties to provide comments on the scope of the EIS, including the proposed purpose and need, the Proposed Action and alternatives to be considered in the EIS, potential environmental impacts of concern and methodologies to be used in the EIS, the approach for public and agency involvement, and any other particular concerns about the potential impacts of the Proposed Action.

DATES: Persons interested in providing written comments on the scope of the EIS must do so by May 31, 2016. Please submit written comments via the internet, email, or mail, using the contact information provided below.

Persons may also provide comments orally or in writing at the public scoping meetings. FRA and NJ TRANSIT will hold two scoping meetings on the following dates:

• May 17, 2016, at the Hotel Pennsylvania, Gold Ballroom, 3rd Floor, 401 Seventh Avenue at West 33rd Street, New York, New York 10001.

• May 19, 2016, at Union City High School, 2500 Kennedy Boulevard, Union City, New Jersey 07087.

Both days will include an afternoon session from 3 to 5 p.m. with a brief presentation about the Proposed Action at 4 p.m., and an evening session from 6 to 8 p.m. with a brief presentation about the Proposed Action at 7 p.m. The public can review Project information, talk informally with members of the study staff, and formally submit comments to the FRA (to a stenographer or in writing). The meeting facilities will be accessible to persons with disabilities. Spanish language translators will be present. If you need special translation or signing services or other special accommodations, please contact the Project team five days prior to the meeting at 973-261-8115, or email team@hudsontunnelproject.com.

FRA and NJ TRANSIT will give equal consideration to oral and written comments.

ADDRESSES: The public and other interested parties are encouraged to comment via the internet at the Project's Web site (www.hudsontunnelproject.com) or via email at team@hudsontunnelproject.com. You can also send written comments by mail to persons identified below.

FOR FURTHER INFORMATION CONTACT: Amishi Castelli, Ph.D., Environmental Protection Specialist, Office of Railroad Policy and Development, USDOT Federal Railroad Administration, One Bowling Green, Suite 429, New York, NY 10004, or Amishi.Castelli@dot.gov; or Mr. RJ Palladino, AICP, PP, Senior Program Manager, NJ TRANSIT Capital Planning, One Penn Plaza East—8th Floor, Newark, NJ 07105, or RPalladino@njtransit.com.

SUPPLEMENTARY INFORMATION: FRA and NJ TRANSIT will prepare the EIS in compliance with NEPA, the Council on Environmental Quality (CEQ) regulations implementing NEPA (40 CFR parts 1500-1508), and the FRA Procedures for Considering Environmental Impacts (FRA's Environmental Procedures) (64 FR 28545, May 26, 1999; 78 FR 2713, Jan. 14, 2013). Consistent with Section 11503 of the Fixing America's Surface Transportation Act of 2015 (FAST Act), FRA and NJ TRANSIT will prepare the EIS consistent with 23 U.S.C. 139. After release and circulation of a Draft EIS for public comment, FRA intends to issue a single document that consists of the Final EIS and Record of Decision under Public Law 112-141, 126 Stat. 405, Section 1319(b) unless it determines the statutory criteria or practicability considerations preclude issuing a combined document.

The EIS will also document compliance with other applicable Federal, state, and local environmental laws and regulations, including Section 106 of the National Historic Preservation Act (NHPA); the Conformity requirements of the Clean Air Act; the Clean Water Act; Section 4(f) of the Department of Transportation Act of 1966 (Section 4(f)); the Endangered Species Act; Executive Order 11988 and USDOT Order 5650.2 on Floodplain Management; Executive Order 11990 on Protection of Wetlands; the Magnuson-Stevens Act related to Essential Fish Habitat; the Coastal Zone Management Act; and Executive Order 12898 on Environmental Justice. The EIS will provide FRA, NJ TRANSIT, and other cooperating and participating agencies and the public with information about alternatives that meet the Proposed Action's purpose and need, including their environmental impacts and appropriate measures to avoid, minimize, and mitigate those impacts.

The Proposed Action may affect historic properties and will be subject to the requirements of Section 106 of the NHPA (54 U.S.C. 306108). Consistent with regulations issued by the Advisory Council on Historic Preservation (36 CFR part 800), FRA intends to coordinate compliance with Section 106 of the NHPA with the preparation of the EIS. The public and interested parties may also provide input relevant to FRA's review under Section 106 including identifying potentially eligible resources and the potential effect of the Proposed Action on those resources. In addition, the public or other interested parties may also request to participate in the Section 106 process as a consulting party under 36 CFR part 800.

Project Background

The existing NEC rail tunnel beneath the Hudson River is known as the North River Tunnel. This tunnel is used by Amtrak for intercity passenger rail service and by NJ TRANSIT for commuter rail service. The approach to the tunnel begins east of NJ TRANSIT's Frank R. Lautenberg Station in Secaucus, New Jersey (which is 5 miles east of Amtrak and NJ TRANSIT's Newark Penn Station). East of the Secaucus station, the NEC has two tracks that approach the tunnel on a raised embankment through the towns of Secaucus and North Bergen, New Jersey. Tracks enter a tunnel portal in North Bergen, passing beneath Union City and Weehawken, New Jersey and the Hudson River before emerging within the Penn Station New York (PSNY) rail complex in New York City. The tunnel has two separate tubes, each accommodating a single track for electrically powered trains, and extends approximately 2.5 miles from the tunnel portal in North Bergen to PSNY. The existing North River Tunnel is a critical NEC asset and is the only intercity passenger rail crossing into New York City from New Jersey and areas west and south.

The NEC is the most heavily used passenger rail line in the U.S., both in terms of ridership and service frequency. Amtrak operates over the entire NEC, providing regional service, long distance service, and high-speed Acela Express service. Amtrak owns the majority of the NEC, including the North River Tunnel. NJ TRANSIT operates an extensive commuter rail network in New Jersey that extends to Philadelphia, Pennsylvania; Orange and Rockland Counties in New York; and New York City. Amtrak's NEC service and NJ TRANSIT's commuter rail service provide connections between the major cities of the Mid-Atlantic and Northeast states and commuter access for thousands of people who work in the region. Therefore, both services are important to the region's economy. In 2014, Amtrak carried approximately 24,000 weekday passengers each day on more than 100 trains between New York and New Jersey. NJ TRANSIT carried almost 90,000 weekday passengers each day on approximately 350 trains between New York and New Jersey.

Extensive engineering work and environmental documentation have been prepared over the past two decades for a new Hudson River rail tunnel. This has included the detailed studies and design conducted for the Access to the Region's Core (ARC) project from 1995 through 2010. The ARC project evaluated several options for construction of a new tunnel under the Hudson River in combination with an expansion of station capacity in midtown Manhattan to accommodate growing passenger demand. In addition, Amtrak conducted the Gateway Program Feasibility Study in 2011-2013, which assessed options for constructing a new Hudson River tunnel. Amtrak's Gateway Program envisions a series of improvement projects to upgrade and expand the capacity of the NEC. While many of the Gateway improvements are still being fully defined, a new Hudson Tunnel on the NEC is urgently needed to maintain existing service.

In 2012, the FRA launched the NEC FUTURE study to consider the role of rail passenger service in the context of current and future transportation demands and to evaluate the appropriate level of capacity improvements to make across the NEC. The intent of the NEC FUTURE program is to help develop a long-term vision and investment program for the NEC. Through NEC FUTURE, FRA is currently evaluating overall capacity improvements and environmental consequences associated with improved NEC rail services, including trans-Hudson service. However, as described above, this Proposed Action addresses a specific need due to the deterioration of the existing North River Tunnel and can be considered independently from the other projects analyzed in the NEC FUTURE EIS. All three build alternatives evaluated in the NEC FUTURE Tier 1 Draft EIS FRA released in November 2015 included new Hudson River tunnel investments similar to this Proposed Action. This EIS may incorporate the appropriate analysis and other relevant elements from the NEC FUTURE Tier 1 EIS while focusing on the issues specific to this independent Project.

As appropriate, FRA and NJ TRANSIT will use the work conducted for the ARC project and Amtrak's feasibility study to provide baseline information for the study of the Proposed Action. While the Proposed Action addresses maintenance and resilience of the NEC Hudson River crossing, it would not increase rail capacity. At the same time, the Proposed Action would not preclude other future projects to expand rail capacity in the area. Accordingly, although the Proposed Action may also be an element of a larger program to expand rail capacity, it would meet an urgent existing need and will be evaluated as a separate project from any larger initiative. Ultimately, an increase in service between Newark Penn Station and PSNY would not occur until other substantial infrastructure capacity improvements are built in addition to a new Hudson River rail tunnel. These improvements will be the subject of one or more separate design, engineering, and appropriate environmental reviews.

Purpose and Need

The purpose of the Proposed Action is: (1) To preserve the current functionality of Amtrak's NEC service and NJ TRANSIT's commuter rail service between New Jersey and PSNY by repairing the deteriorating North River Tunnel; and (2) to strengthen the NEC's resiliency to support reliable rail service by providing redundant capacity under the Hudson River for Amtrak and NJ TRANSIT NEC trains between New Jersey and the existing PSNY. These improvements must be achieved while maintaining uninterrupted commuter and intercity rail service and by optimizing the use of existing infrastructure.

Service reliability through the tunnel has been compromised due to damage to tunnel components Superstorm Sandy caused, when it inundated both tubes in the North River Tunnel with seawater in October 2012. That storm resulted in the cancellation of all Amtrak and NJ TRANSIT service into New York City for five days. Although the tunnel was restored to service and is now safe for travel, chlorides from the seawater remain in the tunnel's concrete liner and bench walls, causing ongoing damage to the bench walls, imbedded steel, track, and signaling and electrical components.

The damage Superstorm Sandy caused is compounded by the tunnel's age and the intensity of its current use (operating at capacity to meet current demands), resulting in frequent delays due to component failures within the tunnel. With no other Hudson River passenger rail crossing into PSNY, single-point failures can suspend rail service, causing delays that cascade up and down the NEC as well as throughout NJ TRANSIT's commuter system, disrupting service for hundreds of thousands of passengers. For example, on March 17, 2016, a NJ TRANSIT train became disabled in one of the tunnel's tubes during the morning peak period, resulting in delays to 57 other Amtrak and NJ TRANSIT trains headed into and out of PSNY that day. Service disruptions will continue and will over time happen more frequently as the deterioration from the seawater inundation continues and components fail in an unpredictable manner.

Because of the importance of the North River Tunnel to essential commuter and intercity rail service between New Jersey and New York, City, rehabilitation of the existing North River Tunnel must be accomplished without unacceptable reductions in weekday service. Removing one tube in the existing North River Tunnel from operation without new capacity in place would reduce weekday service to volumes well below the current maximum capacity of 24 peak direction trains per hour.

In addition, the existing two-track North River Tunnel is operating at full capacity and does not provide redundancy for reliable train operations during disruptions or maintenance. Therefore, any service disruption results in major passenger delays and substantial reductions to overall system flexibility, reliability and on-time performance. This condition is exacerbated by the need to perform increased maintenance to address damage Superstorm Sandy caused. These maintenance demands are difficult to meet because of the intensity of rail service in the tunnel. Efforts to maintain the North River Tunnel in a functional condition currently require nightly and weekend tunnel outages with reductions in service due to single-track operations. Train service is adjusted to allow the closure of one tube of the North River Tunnel each weekend for maintenance for a 55-hour window beginning Friday evening and ending early Monday morning.

Proposed Action and Alternatives

The Proposed Action, the Hudson Tunnel Project, consists of:

• A new NEC rail tunnel with two tubes and electrified tracks beneath the Hudson River, extending from a new tunnel portal in North Bergen, New Jersey to the PSNY rail complex;

• Ventilation shaft buildings above the tunnel on both sides of the Hudson River to provide smoke ventilation during emergencies;

• Modifications to the existing NEC tracks in New Jersey and additional track on the NEC to connect the new tunnel to the NEC, beginning just east of Frank R. Lautenberg Station in Secaucus, New Jersey, and approaching the new tunnel portal in North Bergen, New Jersey;

• Modifications to connecting rail infrastructure at PSNY to connect the new tunnel's tracks to the existing tracks at PSNY; and

• Rehabilitation of the existing North River Tunnel.

Once the North River Tunnel rehabilitation is complete, both the old and new tunnel would be in service, providing redundant capacity and increased operational flexibility for Amtrak and NJ TRANSIT.

In addition to those permanent features, the Proposed Action would involve the following types of construction activities, which will be described and evaluated in the Draft EIS:

• Construction of new tracks along the NEC between Frank R. Lautenberg Station and the new tunnel portal;

• Construction of the new tunnel using Tunnel Boring Machine (TBM) technology, which is conducted underground from a tunnel portal. At this time, it is anticipated that tunneling would likely occur from the New Jersey side of the new tunnel;

• Construction staging sites near the tunnel portal and at the vent shaft site in New Jersey. These locations would be used to access the tunnel and to remove rock from the tunnel while it is being bored;

• Construction staging site at the vent shaft site in Manhattan; and

• Potential construction activities that affect the Hudson River riverbed above the tunnel location.

Alternatives will be developed based on the purpose of and need for the Project, information obtained through the scoping process, and information from previous studies. The EIS process will consider a No Action Alternative and a reasonable range of Build Alternatives identified through an alternatives development process. The Draft EIS will document the alternatives development and screening process. On the basis of that screening process and further analysis in the Draft EIS itself, FRA anticipates that the Draft EIS will also identify and describe the Preferred Alternative consistent with 40 CFR 1502.14(e).

Possible Effects

Consistent with NEPA and FRA's Environmental Procedures, the EIS will consider the potential direct, indirect, and cumulative effects of the Project alternatives on the social, economic, and environmental resources in the study area. This analysis will include identification of study areas; documentation of the affected environment; evaluation of direct and indirect effects of the alternatives; and identification of measures to avoid and/or mitigate adverse impacts.

The analysis will include detailed consideration of impacts that would occur during the Project's construction—including construction of the new tunnel and rehabilitation of the existing tunnel—as well as consideration of the impacts once the construction is complete. The Proposed Action would not expand capacity on this portion of the NEC as compared to the No Action Alternative, and therefore service changes are not an anticipated consequence of the Proposed Action. FRA and NJ TRANSIT will evaluate direct, indirect and cumulative changes to the human and natural environment resulting from the alternatives, including analyses of the following resource areas:

• Transportation;

• Social and economic conditions;

• Property acquisition;

• Parks and recreational resources;

• Visual and aesthetic resources;

• Historic and archaeological resources;

• Air quality;

• Greenhouse gas emissions and resilience;

• Noise and vibration;

• Ecology (including wetlands, water and sediment quality, floodplains, and biological resources);

• Threatened and endangered species;

• Contaminated materials; and

• Environmental justice.

A Section 4(f) evaluation will also be included in the Draft EIS.

Scoping, Public Involvement, and Agency Coordination

This NOI initiates the scoping process under NEPA, which helps guide the development of the Draft EIS. FRA and NJ TRANSIT invite all interested individuals, organizations, and federal, state, and local agencies to comment on the scope of the EIS. Comments are encouraged on the Proposed Action's purpose and need; the alternatives to consider in the EIS; the analyses to include in the EIS and the study area and methodologies to be used; the approach for public and agency involvement; and any particular concerns about the anticipated impacts of the Proposed Action.

Public agencies with jurisdiction are requested to advise FRA of the applicable permit and environmental review requirements of each agency, and the scope and content of the environmental information germane to the agency's statutory responsibilities in connection with the Proposed Action. Public agencies are requested to advise FRA if they anticipate taking a major action in connection with the Proposed Action and if they wish to cooperate in the preparation of the EIS under 40 CFR 1501.16.

FRA will coordinate with participating agencies during development of the Draft EIS under 23 U.S.C. 139. FRA will also coordinate with federally recognized tribes and Consulting Parties established under Section 106 of the NHPA.

The lead agencies will invite all Federal and non-Federal agencies and Native American tribes that may have an interest in the Proposed Action to become participating agencies for the EIS. If an agency or tribe is not invited and would like to participate, please contact FRA at the contact information listed above. The lead agencies will develop a Coordination Plan summarizing how they will engage the public, agencies, and tribes in the process. The Coordination Plan will be posted to the Project Web site (www.hudsontunnelproject.com) and to FRA's Web site (www.fra.dot.gov/Page/P0214). NJ TRANSIT will lead the outreach activities during the public scoping process, beginning with the scoping meeting and comment period identified under DATES above. Public meetings, open houses and other public involvement initiatives, including newsletters and outreach, will be held and used throughout the course of this study. Public outreach activities will be announced on the Project Web site (www.hudsontunnelproject.com) and through mailings, public notices, advertisements and press releases.

Issued in Washington, DC, on April 27, 2016.
Amitabha Bose,
Chief Counsel.

[FR Doc. 2016-10277 Filed 4-28-16; 11:15 am]

BILLING CODE 4910-06-P